DEPARTMENT OF TRANSPORTATION

Federal Aviation Administration

[Docket No. FAA-2024-0433]

Agency Information Collection Activities: Requests for Comments; Clearance of a Renewed Approval of Information Collection: Commercial Air Tour Limitations in the Grand Canyon National Park Special Flight Rules Area

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on February 15, 2024. The FAA will use the information it collects and reviews to monitor compliance with the regulations regarding air tours in the Grand Canyon National Park.

DATES: Written comments should be submitted by November 12, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sandra L. Ray by email at: Sandra.ray@faa.gov; phone: 412-546-7344

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0653.

Title: Commercial Air Tour Limitations in the Grand Canyon National Park Special Flight Rules Area.

Form Numbers: OMB 2120-0653.

Type of Review: Renewal of an information collection.

Background: The Federal Register Notice with a 60-day comment period soliciting comments on the following collection of information was published on February 15, 2024 (89 FR 11917). Each operator seeking to obtain or in possession of an air carrier operating certificate is mandated to comply with the requirements of 14 CFR part 135 or part 121, as appropriate. Thus, each of these operators conducting air tours in the Grand Canyon National Park is mandated to comply with the collection requirements for that airspace. The FAA will use the information it collects and reviews to evaluate compliance with the regulations and, if necessary, take enforcement action against violators of the regulations.

Respondents: 9.

Frequency: Quarterly.

Estimated Average Burden per Response: Varies per Operator.

Estimated Total Annual Burden: 42 Hours.

Issued in Washington, DC, on October 7, 2024.
Sandra L. Ray,
Aviation Safety Inspector, AFS-260.

[FR Doc. 2024-23464 Filed 10-9-24; 8:45 am]

BILLING CODE 4910-13-P